DEPARTMENT OF STATE

[Public Notice: 10101]

Convening of an Accountability Review Board To Examine the Circumstances Surrounding the Deaths of Local Guard Contractors Providing Security for the U.S. Government Mission to Afghanistan in Kabul, Afghanistan on May 31, 2017

SUMMARY: On May 31, 2017, in Kabul, Afghanistan, ten local guard contractors funded by the Department of State were killed in a vehicle-borne improvised explosive device attack while performing their security duties. The Department of State's Accountability Review Board Permanent Coordinating Committee reviewed the incident, determined that it involved loss of life related to a U.S. mission abroad, and recommended that the Secretary convene an Accountability Review Board to investigate the incident further. Pursuant to Section 301 of the Omnibus Diplomatic Security and Antiterrorism Act of 1986, as amended, Secretary of State Rex Tillerson has convened an Accountability Review Board to examine the facts and circumstances of the attacks and to report findings and recommendations as it deems appropriate, in keeping with its mandate.

The Secretary has appointed Pamela E. Bridgewater, a retired U.S. Ambassador, as Chair of the Board. The other Board members are Ambassador (retired) Carol A. Rodley, Mr. Patrick R. Hayes, Mr. Lee R. Lohman, and Mr. Philip F. Reilly. They bring to their deliberations distinguished backgrounds in government service the Board will submit its conclusions and recommendations to Secretary Tillerson within 60 days of its first meeting, unless the Chair determines a need for additional time. Within the timeframes required by statute following receipt of the report, the Department will report to Congress on recommendations made by the Board.

Anyone with information relevant to the Board's examination of these incidents should contact the Board promptly at (202) 647-6427 or send a fax to the Board at (202) 647-5792.

William E. Todd,
Director General of the Foreign Service, Acting, Department of State.

[FR Doc. 2017-18249 Filed 8-28-17; 8:45 am]

BILLING CODE 4710-10-P